DEPARTMENT OF TRANSPORTATION

Federal Aviation Administration

14 CFR Part 71

[Docket No. FAA-2003-16707; Airspace Docket No. 2003-ANE-104]

Establishment of Class E Airspace; Manchester, NH

AGENCY: Federal Aviation Administration (FAA), DOT.

ACTION: Final rule.

SUMMARY: This action establishes Class E airspace area at Manchester, NH (KMHT) to provide for controlled airspace upward from the surface during the times when the air traffic controller tower at Manchester will be closed.

DATES: Effective Date: August 5, 2004.

ADDRESSES: Jon Harris, Acting Manager, Airspace Branch, ANE-520, Federal Aviation Administration, 12 New England Executive Park, Burlington, MA 01803-5299; telephone (781) 238-7520; fax (781) 238-7596.

SUPPLEMENTARY INFORMATION:

Background

On February 5, 2004, the FAA published in the Federal Register a Notice of Proposed Rulemaking (69 FR 5479) that proposed to establish a Class E airspace area extending upward from the surface in the vicinity of the Manchester, NH airport. The purpose of the proposal was to provide controlled airspace from the surface to 700 feet above the ground to accommodate aircraft executing instrument approaches and departures from the airport during times when the air traffic control town at Manchester is closed. Interested persons were invited to participate in this rulemaking proceeding by submitting written data, views, or arguments. We have carefully considered the one comment we received. The comment asked if the Manchester airport tower operating hours would actually change based on this airspace action. In response, the FAA confirms that the Manchester tower operating hours will not change solely because of this airspace action. Any change in the operating hours will be based on the operational requirements of the Manchester airport. The present Manchester Class C airspace area remains an essential safety measure in support of the present operational requirements. This action merely puts in place the necessary controlled airspace to support instrument flight operations in the event that the FAA changes the operating hours of the Manchester ATCT. No additional comments were received.

The Rule

This amendment to part 71 of the Federal Aviation Regulation (14 CFR part 71) establishes a Class E airspace area at Manchester, NH. The Class E airspace area extends upward from the surface at Manchester Airport, Manchester, NH. The purpose of this controlled airspace will be to provide for controlled airspace from the surface to accommodate aircraft executing instrument approaches and departures from the airport during times when the air traffic control town at Manchester is closed.

The coordinates for this airspace docket are based on North American Datum 83. Class E airspace designations for airspace extending upward from the surface of an airport are published in paragraph 6002 of FAA Order 7400.9L, dated September 2, 2003, and effective September 16, 2003, which is incorporated by reference in 14 CFR 71.1. The Class E airspace designations listed in this document will be published subsequently in this Order.

The FAA has determined that this proposed regulation only involves a body of technical regulations for which frequent and routine amendments are necessary to keep them operationally current. For the reasons discussed in the preamble, I certify that this regulation (1) is not a “significant regulatory action” under Executive Order 12866; (2) is not a “significant rule” under Department of Transportation (DOT) Regulatory Policies and Procedures (44 FR 11034, February 26, 1979); and (3) does not warrant preparation of a Regulatory Evaluation as the anticipated effect on these routine matters will is so minimal. Since this proposal will only affect air traffic procedures and air navigation, it is certified that this proposed rule will not have significant economic impact on a substantial number of small entities under the criteria of the Regulatory Flexibility Act.

List of Subjects in 14 CFR Part 71

Airspace, Incorporation by reference, Navigation (air).

Adoption of the Amendment

In consideration of the foregoing, the Federal Aviation Administration amends part 71 of the Federal Aviation Regulations (14 CFR part 71) as follows;

PART 71—[Amended]

1. The authority citation for part 71 continues to read as follows:

Authority: 49 U.S.C. 106(g), 40103, 40113, 40120; E.O. 10854, 24 FR 9565, 3 CFR, 1959-1963 Comp., p. 389.

2. The incorporation by reference in 14 CFR 71.1 of Federal Aviation Administration Order 7400.9L, Airspace Designations and Reporting Points, dated September 2, 2003, and effective September 16, 2003, is amended as follows:

Paragraph 6002 Class E airspace areas extending upward from the surface of an airport.

* * * * *

ANE NH E2 Manchester, NH [New]

Manchester Airport, NH (Lat. 42°55′57″ N., long. 71°26′8″ W)

Within a 5-mile radius of the Manchester Airport. This Class E airspace area is effective during the specific dates and times established in advance by a Notice to Airmen. The effective date and time will thereafter be Continuously published in the Airport/Facility Directory.

* * * * *

Issued in Burlington, MA, on June 1, 2004.
William C. Yuknewicz,
Acting Manager, Air Traffic Division, New England Region.

[FR Doc. 04-13310 Filed 6-10-04; 8:45 am]

BILLING CODE 4910-13-M